DEPARTMENT OF LABOR

Employment and Training Administration

Notice of a Change in Status of an Extended Benefit (EB) Period for Alaska and Wisconsin

AGENCY: Employment and Training Administration, Labor.

ACTION: Notice.

SUMMARY: This notice announces a change in benefit period eligibility under the Extended Benefits program for Alaska and Wisconsin.

The following changes have occurred since the publication of the last notice regarding the States' EB status:

• The Total Unemployment Rate (TUR) data for August 2010, released on September 21, 2010, by the Bureau of Labor Statistics, brought the three-month average seasonally adjusted TURs in Alaska and Wisconsin below the 8.0% threshold to remain “on” for a High Unemployment Period (HUP) in the Extended Benefits program. As a result, Alaska and Wisconsin concluded their HUP on October 16 and eligibility for claimants has been reduced from a maximum potential entitlement of 20 weeks to a maximum potential entitlement of 13 weeks in the Extended Benefits program.

The trigger notice covering state eligibility for the Extended Benefit program can be found at: http://ows.doleta.gov/unemploy/claims_arch.asp. A new trigger notice is posted at this location each week.

Information for Claimants

The duration of benefits payable in the EB Program, and the terms and conditions on which they are payable, are governed by the Federal-State Extended Unemployment Compensation Act of 1970, as amended, and the operating instructions issued to the states by the U.S. Department of Labor. In the case of a state beginning an EB period, the State Workforce Agency will furnish a written notice of potential entitlement to each individual who has exhausted all rights to regular benefits and is potentially eligible for EB (20 CFR 615.13(c)(1)).

Persons who believe they may be entitled to EB, or who wish to inquire about their rights under the program, should contact their State Workforce Agency.

FOR FURTHER INFORMATION CONTACT: Scott Gibbons, U.S. Department of Labor, Employment and Training Administration, Office of Workforce Security, 200 Constitution Avenue, NW., Frances Perkins Bldg. Room S-4231, Washington, DC 20210, telephone number (202) 693-3008 (this is not a toll-free number) or by e-mail: gibbons.scott@dol.gov.

Signed in Washington, DC, this 4th day of November 2010.
Jane Oates,
Assistant Secretary, Employment and Training Administration.

[FR Doc. 2010-28350 Filed 11-9-10; 8:45 am]

BILLING CODE 4510-FW-P